DEPARTMENT OF COMMERCE

International Trade Administration

[A-570-825]

Sebacic Acid From the People's Republic of China: Rescission of antidumping duty administrative review

AGENCY: Import Administration, International Trade Administration, Department of Commerce.

ACTION: Notice of rescission of antidumping duty administrative review.

SUMMARY: On September 6, 2000, in response to a request made by Guangdong Chemicals Import and Export Corporation, Sinochem Tianjin Import and Export Corporation, and ICC Chemical Corporation, the Department of Commerce published the notice of initiation of an antidumping duty administrative review on sebacic acid from the People's Republic of China for the period July 1, 1999, through June 30, 2000. Because these parties have withdrawn their request for review, the Department is rescinding this review in accordance with 19 CFR 351.213(d)(1).

EFFECTIVE DATE: November 27, 2000.

FOR FURTHER INFORMATION CONTACT: Christopher Priddy or James Nunno, AD/CVD Enforcement Group I, Import Administration, International Trade Administration, U.S. Department of Commerce, 14th Street and Constitution Avenue, NW, Washington, DC 20230; telephone (202) 482-1130 or (202) 482-0783, respectively.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On July 31, 2000, Guangdong Chemicals Import and Export Corporation (Guangdong), Sinochem Tianjin Import and Export Corporation (Tianjin), and ICC Chemical Corporation requested that the Department conduct an administrative review of the antidumping duty order on sebacic acid from the People's Republic of China for the review period July 1, 1999, through June 30, 2000. On September 6, 2000, the Department published in the Federal Register a notice of initiation of administrative review with respect to Guangdong and Tianjin. See Initiation of Antidumping and Countervailing Duty Administrative Reviews and Requests for Revocation in Part, 65 FR 53980 (Sept. 6, 2000). On October 19, 2000, Guangdong, Tianjin, and ICC Chemical Corporation withdrew their request for an administrative review in the above-referenced case.

Rescission of Review

Pursuant to 19 CFR 351.213(d)(1), the Department will rescind an administrative review, in whole or in part, if a party that requested a review withdraws the request within 90 days of the date of publication of notice of initiation of the requested review. Because Guangdong and Tianjin's withdrawal was submitted within the 90-day time limit, and no other party requested a review, we are rescinding the review. We will issue appropriate appraisement instructions directly to the U.S. Customs Service.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

This determination is issued in accordance with section 777(i)(1) of the Act and 19 CFR 351.213(d)(1) and (d)(4).

Dated: November 20, 2000.
Louis Apple,
Acting Deputy Assistant Secretary for Import Administration.

[FR Doc. 00-30143 Filed 11-24-00; 8:45 am]

BILLING CODE 3510-DS-P